DEPARTMENT OF DEFENSE

GENERAL SERVICES ADMINISTRATION

NATIONAL AERONAUTICS AND SPACE ADMINISTRATION

[OMB Control No. 9000-00XX]

Federal Acquisition Regulation; Submission for OMB Review; Online Procurement Services—Industry Outreach Feedback Survey and Online Procurement Services—Reverse Auction Service Providers Outreach Feedback Survey

AGENCIES: Department of Defense (DOD), General Services Administration (GSA), and National Aeronautics and Space Administration (NASA).

ACTION: Notice of request for public comments regarding a request for a new OMB clearance.

SUMMARY: Under the provisions of the Paperwork Reduction Act of 1995 (44 U.S.C. Chapter 35), this notice announces the Office of Federal Procurement Policy's (OFPP) and the General Services Administration's (GSA) intention to initiate a new information collection to conduct two surveys on Online Procurement Services. The results from these surveys will be incorporated into a report to Congress. A request for public comments was published in the Federal Register at 72 FR 19884, on April 20, 2007. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before September 20, 2007.

ADDRESSES: Submit comments regarding this burden estimate or any other aspect of this collection of information, including suggestions for reducing this burden to: FAR Desk Officer, OMB, Room 10102, NEOB, Washington, DC 20503, and a copy to the General Services Administration, FAR Secretariat (VIR), 1800 F. Street, NW., Room 4035, Washington, DC 20405.

FOR FURTHER INFORMATION CONTACT Ms. Julie Basile, Procurement Policy Analyst, Office of Management and Budget, Office of Federal Procurement Policy, 725 17th Street, NW., Room 9013, Washington, DC 20503 or via e-mail to jbasile@omb.eop.gov or via telephone on (202) 395-4821.

SUPPLEMENTARY INFORMATION:

A. Purpose

The National Defense Authorization Act for Fiscal Year 2006 (P. L. 109-360) requires OFPP, in consultation with the Federal Acquisition Regulatory Council, to review the use of online procurement services, such as reverse auction services, and identify types of commercial item procurements that are suitable for the use of such services; and features that should be provided by online procurement services that are used by Federal agencies. To conduct this review, a survey will be issued to the Government and industry buying activities and to reverse auction service providers. The information collected through the surveys will be used to determine how the Government buying activities can most effectively use reverse auctions as a tool to support Government requiring activities and ensure that the U.S. taxpayer is best served. To view the two draft surveys entitled, Online Procurement Services—Government and Industry Outreach Feedback and Online Procurement Services—Reverse Auction Service Providers Outreach Feedback, visit http://www.acquisition.gov.

Title: Online Procurement Services—Government and Industry Outreach Feedback; and Online Procurement Services—Reverse Auction Service Providers Outreach Feedback.

OMB Number: Not Yet Assigned.

Expiration Date: Not yet determined.

Type of Request: New collection of information.

Abstract: The purpose of these two one-time surveys are to determine how Government buying activities can most effectively use reverse auctions as a tool to support Government requiring activities and to ensure the U.S. taxpayer is best served.

Affected Public: Two respondent groups are identified and will receive similar surveys on Online Procurement Services: Government and industry buying activities; and reverse auction service providers. However, for the purposes of this collection we are counting the industry buying activities and reverse auction service providers.

B. Annual Reporting Burden

Respondents: 580 (not to exceed 1000).

Responses Per Respondent: 1.

Annual Responses: 580 (not to exceed 1000).

Hours Per Response: 0.50.

Total Burden Hours: 290.

Estimated Number of Respondents: approximately 580 and not expected to exceed 1000. The estimated number of industry respondents to the Government and Industry Buying Activities Survey is 550. The estimated number of industry respondents to the Reverse Auction Survey is 30 based on the Government's latest market research. Estimated Number of Responses per Respondent: 1 per company. The number of responses per respondent is one for each of the two surveys. Each respondent will only be required to complete one survey once. Estimated Total Annual Responses: approximately 580 and not expected to exceed 1000 (580 x 1). Estimated Time per Response: 30 minutes (0.50 hours). The estimated average time for industry to respond to Government and Industry Buying Activity Survey is approximately 15 minutes (0.25 hours), based on a pre-test of the draft instrument by Government employees. The data collection instrument for the Reverse Auction Service Providers Survey was pre-tested on a support contractor, a related business sector. The Reverse Auction Service Providers Survey instrument is similar to the Government and Industry Buying Activity Survey; therefore, the pre-test results for the Government and Industry Buying Activity Survey are used to estimate average response time for the Reverse Auction Service Providers Survey, which is 15 minutes (0.25 hours). Estimated Total Annual Burden on Respondents: 290 hours (580 x 0.50).

All responses to this notice will be summarized and included in the request for OMB approval. All comments will also become a matter of public record.

C. Annual Review Burden and Cost

Responses: 580.

Review Time Per Response: .45.

Total Burden Hours: 261.

Cost Per Hour: $45.00.

Total Cost: $11,745.00.

OBTAINING COPIES OF PROPOSALS: Requesters may obtain a copy of the information collection documents from the General Services Administration, FAR Secretariat (VIR), Room 4035, 1800 F. Street, NW., Washington, DC 20405, telephone (202) 501-4755. Please cite OMB Control No. 9000-00XX, Online Procurement Services—Industry Outreach Feedback Survey and Online.

Dated: August 14, 2007.
Al Matera,
Director, Office of Acquisition Policy.

[FR Doc. 07-4065; Filed 8-20-07; 8:45 am]

BILLING CODE 6820-EP-S